DEPARTMENT OF COMMERCE

International Trade Administration

[A-357-812]

Honey from Argentina: Final Results of Antidumping Duty Administrative Review and Determination Not to Revoke in Part

AGENCY: Import Administration, International Trade Administration, Department of Commerce.

SUMMARY: On December 28, 2007, the Department of Commerce (the Department) published its preliminary results of the administrative review of the antidumping duty order on honey from Argentina. See Honey from Argentina: Preliminary Results of Antidumping Duty Administrative Review and Intent Not to Revoke in Part, 72 FR 73758 (December 28, 2007) (Preliminary Results). This administrative review covers five firms, two of which were selected as mandatory respondents, Asociacion de Cooperativas Argentinas (ACA) and Seylinco, S.A. (Seylinco). Based on our analysis of comments received, the margins for the final results do not differ from the preliminary results. See Preliminary Results.

EFFECTIVE DATE: May 2, 2008.

FOR FURTHER INFORMATION CONTACT: Maryanne Burke for Seylinco, Deborah Scott for ACA or Robert James, Office 7, Import Administration, International Trade Administration, U.S. Department of Commerce, 14th Street and Constitution Avenue, NW, Washington, DC 20230; telephone: (202) 482-5604, (202) 482-2657 or (202) 482-0649, respectively.

SUPPLEMENTARY INFORMATION:

Background

On December 28, 2007, the Department published in the Federal Register the preliminary results of the administrative review of the antidumping duty order on honey from Argentina for the period December 1, 2005 to November 30, 2006. See Preliminary Results. In response to the Department's invitation to comment on the Preliminary Results, the American Honey Producers Association and the Sioux Honey Association (collectively, petitioners) and respondents ACA and Seylinco filed their case briefs on January 28, 2008. Petitioners and ACA submitted their rebuttal briefs on February 4, 2008.

Period of Review

The period of review (POR) is December 1, 2005, to November 30, 2006.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Determination Not to Revoke in Part

As discussed in the Preliminary Results, 72 FR at 73760, Seylinco requested that the Department revoke the order in regard to Seylinco pursuant to 19 CFR 351.222 based on three consecutive zero margins. We preliminarily determined not to revoke the order with respect to Seylinco because it did not ship in commercial quantities during each of the three years forming the basis of its request. See id. For these final results, the Department has relied upon Seylinco's sales activity during the 2003-2004, 2004-2005, and 2005-2006 PORs in making its decision with respect to Seylinco's revocation request. Although Seylinco had three consecutive years of sales at not less than normal value (NV), Seylinco did not sell subject merchandise in commercial quantities in each of these three years forming the basis of the request for revocation. Thus, Seylinco is not eligible for revocation pursuant to 19 CFR 351.222(d)(1). Accordingly, we have determined not to revoke the antidumping duty order with respect to Seylinco. See Comment 5 of the Issues and Decision Memorandum from Stephen J. Claeys, Deputy Assistant Secretary for Import Administration, to David M. Spooner, Assistant Secretary for Import Administration (Issues and Decision Memorandum) accompanying this notice.

Analysis of Comments Received

All issues raised in the case and rebuttal briefs by parties to this administrative review are addressed in the Issues and Decision Memorandum. A list of issues addressed in the Issues and Decision Memorandum is appended to this notice. The Issues and Decision Memorandum is on file in the CRU and can be accessed directly on the web at http://www.ita.doc.gov/.

Changes Since the Preliminary Results

Based on our analysis of comments received we have made two changes to the margin calculation for ACA. First, we converted the average cost of production calculated for ACA's beekeepers from a per-kilogram to a per-metric ton basis. Second, we added ACA's reported homogenization costs to the average cost of production. These changes in the calculation did not result in a change in the final margin. We made no changes to the margin calculation for Seylinco.

Final Results of Review

We determine that the following dumping margins exist for the period December 1, 2005 through November 30, 2006.

Manufacturer / Exporter | Weighted Average Margin (percentage)
ACA | 0.00
Seylinco | 0.00
Patagonik S.A. | 0.00
El Mana, S.A. | 0.00
Naiman S.A | 0.00

Assessment

The Department shall determine, and U.S. Customs and Border Protection (CBP) shall assess, antidumping duties on all appropriate entries. In accordance with 19 CFR 351.212(b)(1), we have calculated duty assessment rates which will be applied uniformly on all ACA, Seylinco, Patagonik S.A., El Mana S.A. and Naiman S.A. entries made during the POR. The Department intends to issue assessment instructions directly to CBP 15 days after the date of publication of these final results of review. We will direct CBP to liquidate without regard to antidumping duties.

The Department clarified its automatic assessment regulation on May 6, 2003 (68 FR 23954). This clarification will apply to entries of subject merchandise during the POR produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumption on or after the publication date, consistent with section 751(a)(1) of the Tariff Act of 1930, as amended (the Tariff Act): (1) cash deposit rate for ACA, Seylinco, Patagonik S.A., El Mana S.A. and Naiman S.A. will be zero; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be 30.24 percent, which is the all-others rate established in the LTFV investigation. See Notice of Antidumping Duty Order; Honey From Argentina, 66 FR 63672 (December 10, 2001). These deposit requirements, when imposed, shall remain in effect until publication of the final results of the next administrative review.

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections 751(a)(1) and 777(i)(1) of the Tariff Act.

Dated: April 28, 2008.
David M. Spooner,
Assistant Secretary for Import Administration.

Appendix - List of Comments in the Issues and Decision Memorandum

ACA

Comment 1. Reclassification of ACA's Reported Testing and Homogenization Expenses

Comment 2. Date of Sale and Selection of the United Kingdom as the Third-Country Market

Comment 3. Whether Sales to the United Kingdom Are Representative

Comment 4. Issues Related to the Cost of Production

Seylinco

Comment 5. Revocation

[FR Doc. E8-9729 Filed 5-1-08; 8:45 am]

BILLING CODE 3510-DR-S